FEDERAL ELECTION COMMISSION

Sunshine Act Meeting Notice

Date and Time: Tuesday, April 8, 2003 at 10 a.m.

Place: 999 E Street NW., Washington, DC

Status: This meeting will be closed to the public.

Items to be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Note: The open meeting scheduled for Thursday, April 10, 2003, has been prescheduled to Wednesday, April 9, 2003.

Date and Time: Wednesday, April 9, 2003 at 10 a.m.

Place: 999 E Street NW., Washington, DC (Ninth Floor).

Status: This meeting will be open to the public.

Items to be Discussed: Correction and Approval of Minutes.

Legislative Recommendations for 2003.

Administrative Matters.

Person to Contact for Information: Mr. Ron Harris, Press Officer, Telephone: (202) 694-1220.

Mary W. Dove,
Secretary of the Commission.

[FR Doc. 03-8223 Filed 4-1-03; 11:34 am]

BILLING CODE 6715-01-M